SURFACE TRANSPORTATION BOARD

[Docket No. FD 36517]

C&S Railroad Corporation—Lease and Operation Exemption—Reading Blue Mountain & Northern Railroad Company

C&S Railroad Corporation (C&S), a Class III railroad, has filed a verified notice of exemption pursuant to 49 CFR 1150.41 to lease and operate an approximately 19.5-mile rail line being purchased by Reading Blue Mountain & Northern Railroad Company (RBMN) from Carbon County, Pa. (County),¹ extending between milepost 19.5 near Tamenend, Schuylkill County, Pa., and milepost 0.0± at Packerton Jct., Carbon County, Pa. (the Line).²

¹ The acquisition by RBMN from the County is the subject of a separate verified notice filed by RBMN in Reading Blue Mountain & Northern Railroad—Acquisition Exemption—Carbon County, Pa., Docket No. FD 36516.

² C&S states that the portion of the Rail Line between milepost 18 ± at Mauch Chunk Jct. and the end of the line at milepost 19.5 has been out of service and unused for many years. C&S does not currently operate that portion of the Rail Line and does not anticipate doing so under the new lease with RBMN.

C&S states that it currently leases the Line from the County (through the Carbon County Railroad Commission) and operates it under a modified rail certificate.³ C&S states that when RBMN acquires the Line from the County, C&S's lease with the County will be terminated, and C&S immediately will enter into a new lease with RBMN that will allow C&S to continue to operate the Line.

³ The modified rail certificate was approved in 1990. C&S R.R. Modified Rail Certificate, FD 31618 (ICC served Apr. 18, 1990). Pursuant to 49 CFR 1150.24, a carrier is required to provide notice of termination of service under a modified certificate. C&S should provide its notice of termination of operations under the modified certificate to the appropriate parties and file with the Board in Docket No. FD 31618, and should indicate in its notice that it will continue to provide service pursuant to the authority obtained in this docket. See D&I R.R.—Acquis. & Operation Exemption—in Lincoln & Union Cntys., S.D., & Lyon, Sioux, & Plymouth Cntys., Iowa, FD 36497, slip op. at 1 n.2, (STB served Apr. 13, 2021).

According to C&S, the proposed lease agreement will not impose or include an interchange commitment. Further, C&S certifies that its projected annual revenue will not exceed $5 million and will not result in the creation of a Class I or II rail carrier.

The earliest this transaction may be consummated is June 13, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than June 4, 2021 (at least seven days before the exemption becomes effective).

All pleadings, referring to Docket No. FD 36517, should be filed with the Surface Transportation Board via e-filing on the Board's website. In addition, a copy of each pleading must be served on C&S's representative: Eric M. Hocky, Clark Hill PLC, Two Commerce Square, 2001 Market St., Suite 2620, Philadelphia, PA 19103.

According to C&S, this action is categorically excluded from environmental review under 49 CFR 1105.6(c) and from historic preservation reporting requirements under 49 CFR 1105.8(b).

Board decisions and notices are available at www.stb.gov.

Decided: May 25, 2021.
By the Board, Scott M. Zimmerman, Acting Director, Office of Proceedings.
Aretha Laws-Byrum,
Clearance Clerk.

[FR Doc. 2021-11350 Filed 5-27-21; 8:45 am]

BILLING CODE 4915-01-P